DEPARTMENT OF COMMERCE

Patent and Trademark Office

Agency Information Collection Activities; Submission to the Office of Management and Budget (OMB) for Review and Approval; Comment Request; Global Intellectual Property Academy (GIPA) Surveys

AGENCY: United States Patent and Trademark Office, Department of Commerce.

ACTION: Notice of information collection, request for comment.

SUMMARY: The United States Patent and Trademark Office (USPTO), in accordance with the Paperwork Reduction Act of 1995, invites comments on the extension and revision of an existing information collection: 0651-0065 (Global Intellectual Property Academy (GIPA) Surveys). The purpose of this notice is to allow 60 days for public comment preceding submission of the information collection to OMB.

DATES: To ensure consideration, comments regarding this information collection must be received on or before August 21, 2020.

ADDRESSES: Interested persons are invited to submit written comments by any of the following methods. Do not submit Confidential Business Information or otherwise sensitive or protected information.

• Email: InformationCollection@uspto.gov. Include “0651-0065 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to J. David Binsted, Program Manager, Global Intellectual Property Academy, United States Patent and Trademark Office, P.O. Box 1450, Alexandria, VA 22313-1450; by telephone at 571-272-1500; or by email at james.binsted@upsto.gov. Additional information about this information collection is also available at htttp://www.reginfo.gov under “Information Collection Review.”

SUPPLEMENTARY INFORMATION:

I. Abstract

The United States Patent and Trademark Office (USPTO) surveys international and domestic participants of the USPTO's Global Intellectual Property Academy (GIPA) training programs to obtain feedback from the participants on the effectiveness of the various services provided to them in the training programs. GIPA was established in 2006 to offer training programs on the enforcement of intellectual property rights, patents, trademarks, and copyright. The training programs offered by GIPA are designed to meet the specific needs of foreign government officials (including judges; prosecutors; police; customs officials; patent, trademark, and copyright officials; and policymakers) concerning various intellectual property topics, such as global intellectual property rights protection, enforcement, and strategies to handle the protection and enforcement issues in their respective countries.

This information collection contains three surveys directed to separate audiences: Overseas-program participants, post-program participants, and alumni. The Overseas-Program survey is designed for international participants at the conclusion of the GIPA training program conducted overseas. This survey replaces the existing Pre-Program survey and is a shortened version of the Post-Program survey. The Post-Program survey is used to analyze the overall effectiveness of the program and is conducted at the conclusion of training programs held at US locations. The Alumni Survey is used to determine the benefit of the GIPA training program for the future job performance of the participant. The data obtained from these 3 participation surveys will be used to evaluate the percentage of foreign officials trained by GIPA who have increased their expertise in intellectual property, enhanced their professional abilities and future job performance, and developed their own nation's intellectual property program. All the surveys have updated questions and answer options.

The GIPA surveys are voluntary surveys and will be kept private, to the extent provided by law. The USPTO does not intend to collect any personally identifying data from the participants and intends to maintain the contact information for the participants in a separate file for the quantitative data.

II. Method of Collection

Items in this information collection may be submitted via online electronic submissions, and occasional in-person surveys.

III. Data

OMB Control Number: 0651-0065.

Form Number(s): None.

Type of Review: Revision of a currently approved information collection.

Affected Public: Federal Government (Foreign Government).

Estimated Number of Respondents: 750 respondents per year.

Estimated Time per Response: The USPTO estimates that it takes the public approximately 15 minutes (0.25 hours) to complete the surveys in this information collection. This includes the time to gather the necessary information, respond to the survey, and submit it to the USPTO.

Estimated Total Annual Respondent Burden Hours: 188 hours.

Estimated Total Annual Respondent Cost Burden: $15,512.

Table 1—Total Hourly Burden for Foreign Government Respondents
Item No. | Item | Estimated annual responses | Estimated time for response (hours) | Estimated annual burden hours | Rate ¹ ($/hr) | Estimated annual burden
|  | (b) | (a) | (a) × (b) = (c) | (d) | (c) × (d) = (e)
1 | Overseas-Program Survey | 225 | 0.25 | 56 | $82.51 | $4,621
2 | Post-Program Survey | 150 | 0.25 | 38 | 82.51 | 3,135
3 | Alumni Survey | 375 | 0.25 | 94 | 82.51 | 7,756
| Totals | 750 |  | 188 |  | 15,512
¹ Bureau of Labor Statistics Occupation Employment Statistics wage 23-1021. https://www.bls.gov/oes/current/oes231021.htm. The hourly rate is $63.47 which results in a fully burdened rate of $82.51 (salary plus 30% for estimated overhead and benefits).

Estimated Total Annual Non-Hour Respondent Cost Burden: $0 per year. There are no maintenance, operation, capital start-up, postage, or recordkeeping costs associated with this information collection.

Respondent's Obligation: Voluntary.

IV. Request for Comments

The USPTO is soliciting public comments to:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including your address, phone number, email address, or other personal identifying information in a comment, you should be aware that the entire comment—including personal identifying information—may be made publicly available at any time. While you may ask us in your comment to withhold your personal identifying information from public view, USPTO cannot guarantee that it will be able to do so.

Kimberly Hardy,
Information Collections Officer, Office of the Chief Administrative Officer, United States Patent and Trademark Office.

[FR Doc. 2020-13292 Filed 6-19-20; 8:45 am]

BILLING CODE 3510-16-P